DEPARTMENT OF THE TREASURY

Internal Revenue Service

Agency Information Collection Activities; Comment Request on Voluntary Customer Surveys To Implement E.O. 12862 Coordinated by the Corporate Planning and Performance Division on Behalf of All IRS Operations Functions

AGENCY: Internal Revenue Service (IRS), Treasury.

ACTION: Notice of information collection; request for comments.

SUMMARY: In accordance with the Paperwork Reduction Act of 1995. The IRS is inviting comments on the information collection request outlined in this notice.

DATES: Written comments should be received on or before August 11, 2025 to be assured of consideration.

ADDRESSES: Direct all written comments to Andres Garcia, Internal Revenue Service, Room 6526, 1111 Constitution Avenue NW, Washington, DC 20224, or by email to pra.comments@irs.gov. Include OMB Control Number 1545-1432 in the subject line of the message.

FOR FURTHER INFORMATION CONTACT: Requests for additional information or copies of this collection should be directed to LaNita Van Dyke, (202) 317-6009.

SUPPLEMENTARY INFORMATION: The IRS, in accordance with the Paperwork Reduction Act of 1995 (PRA) (44 U.S.C. 3506(c)(2)(A)), provides the general public and Federal agencies with an opportunity to comment on proposed, revised, and continuing collections of information. This helps the IRS access the impact and minimize the burden of its information collection requirements. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Title: Voluntary Customer Surveys to Implement E.O. 12862 Coordinated by the Corporate Planning and Performance Division on Behalf of All IRS Operations Functions.

OMB Control Number: 1545-1432.

Form: Generic Customer Feedback Surveys.

Abstract: This is a generic clearance for customer satisfaction and opinion surveys to be conducted over the next three years. Surveys conducted under the generic clearance are used by the Internal Revenue Service to determine levels of customer satisfaction as well as issues that contribute to customer burden. This information will be used to make quality improvements to products and services. A variety of questionnaires are expected to be used in IRS data gathering efforts. The exact number of different forms, the length of each form, and the number of respondents per form are unknown at the present time.

Current Actions: There is no change to the generic clearance from the previous OMB approval.

Type of Review: Extension of a currently approved collection.

Affected Public: Individuals or households, business or other for-profit organizations, not-for-profit institutions, farms and Federal, state, local or tribal governments.

Estimated Number of Responses: 450,000.

Estimated Time per Response: .10 hours.

Estimated Total Burden Hours: 45,000.

Approved: June 9, 2025.
LaNita Van Dyke,
Tax Analyst.

[FR Doc. 2025-10693 Filed 6-11-25; 8:45 am]

BILLING CODE 4830-01-P